AGENCY FOR INTERNATIONAL DEVELOPMENT

Privacy Act of 1974, System of Records

AGENCY: United States Agency for International Development.

ACTION: Altered system of records.

SUMMARY: The United States Agency for International Development (USAID) is issuing public notice of its intent to alter a system of records maintained in accordance with the Privacy Act of 1974 (5 U.S.C. 552a), as amended, entitled “USAID-28, Personnel Locator System”. This action is necessary to meet the requirements of the Privacy Act to publish in the Federal Register notice of the existence and character of record systems maintained by the agency (5 U.S.C. 522a(e)(4)).

DATES: Public comments must be received on or before November 20, 2012. Unless comments are received that would require a revision; this update to the system of records will become effective on November 30, 2012.

ADDRESSES: You may submit comments:

Paper Comments

• Fax: (703) 666-5670.

• Mail: Chief Privacy Officer, United States Agency for International Development, 2733 Crystal Drive, 11th Floor, Arlington, VA 22202.

Electronic Comments

• Federal eRulemaking Portal: http://www.regulations.gov. Follow the instructions on the Web site for submitting comments.

• Email: privacy@usaid.gov.

FOR FURTHER INFORMATION CONTACT: For general questions, please contact, USAID Privacy Office, United States Agency for International Development, 2733 Crystal Drive, 10th Floor, Arlington, VA 22202. Email: privacy@usaid.gov.

SUPPLEMENTARY INFORMATION: The Personnel Locator System is being updated as an Agency-wide system of record to cover all USAID Locator Systems, to include the Emergency Notification System, USAID Web site Modernization to include requests for newsletters via USAID.gov and information collected on Agency Telework forms. This would also include electronic business card applications. USAID Offices, Bureaus, Missions, or Teams, that desire to collect, maintain or store personnel data under the scope of this system of records will be required to undergo a compliance review and register their system with the USAID Privacy Office. The system is being established to collect and maintain USAID organizational information, emergency contact information and professional biographical information. The Personnel Locator System will enable USAID to quickly access information required to reach individuals in the event of an urgent situation, conduct continuity of operations planning exercises, and identify individuals with specialized areas of expertise to facilitate professional contacts.

Dated: August 29, 2012.
William Morgan,
Chief Information Security Officer—Chief Privacy Officer.

USAID-28

System name:

USAID Personnel Locator System (to include Emergency Notification System, Telework, and Newsletters).

Security classification:

Sensitive But Unclassified.

System location(s):

United States Agency for International Development, 1300 Pennsylvania Ave. NW., Washington, DC 20523.

Categories of individuals covered by the system:

This system contains records of current employees, contractors, consultants, and partners.

Categories of records covered by the system:

This system contains USAID organizational information. At a solution wide level the system will collect and display First and Last Name, title, USAID Organizational address, building name, room number, bureau, region, mission, country, office telephone numbers, office fax numbers, contact email address, employment mechanism, home address, home phone number, alternate phone number, emergency contact name, emergency contact phone number, emergency contact alternate number, program areas of expertise, foreign language skills, professional affiliations, professional certifications, photograph, region or country-based experience, operational experience and educational experience. The Personnel Locator System is being updated as an Agency-wide system of record to cover all USAID Locator Systems, to include the Emergency Notification System, USAID Web site Modernization to include, requests for newsletters via USAID.gov and information collected on Agency Telework forms. This would also include electronic business card applications.

Authority for maintenance of the system:

Privacy Act of 1974 (Pub. L. 93-579), sec. 552a(c), (e), (f), and (p).

Purpose(s):

Records in this system will be used:

(1) To develop and maintain current agency personnel locator and professional directory listings,

(2) To identify and notify individuals employed by USAID when an emergency which occurs after hours requires that he/she report or not report for duty,

(3) To maintain and implement emergency plans, including continuity of operations and facility evacuation plans,

(4) To notify, locate, and mobilize individuals as necessary during emergency or other threatening situations,

(5) To notify the designated emergency contact in case of a medical or other emergency event involving an individual,

(6) To identify colleagues by areas of expertise to facilitate mentoring activities with Foreign Service Officers,

(7) To identify colleagues with specialized knowledge and/or expertise to participate in collaborative efforts,

(8) To facilitate this information in the Emergency Notification System,

(9) To facilitate the transmission of Agency Newsletters, and

(10) To identify personnel that are utilizing the Governmental Telework Policy and to support the OMB mandate for telework.

Disclosure to consumer reporting agencies:

These records are not disclosed to consumer reporting agencies.

Purposes of Such Uses:

USAID may disclose relevant system records in accordance with any current and future blanket routine uses established for its record systems. These may be for internal communications or with external partners.

Routine Use of Records Maintained in the System, Including Categories of Users and the

Disclosure to consumer reporting agencies:

These records are not disclosed to consumer reporting agencies.

Policies and practices for storing, retrieving, accessing, retaining, and disposing of records in the system:

Storage:

Electronic records are maintained in user-authenticated, password-protected systems. All records are accessed only by authorized personnel who have a need to access the records in the performance of their official duties.

Retrievability:

Records are retrievable by name, location or any other identifier listed in the categories of records cited above.

Safeguards:

Additional administrative safeguards are provided through the use of internal standard operating procedures.

Retention and disposal:

Records will be updated periodically to reflect changes and deleted or destroyed when their use is no longer required.

System manager(s) and address:

Personnel Locator System (Emergency Notification System, Telework Program and USAID Web site Modernization), United States Agency for International, Development, 1300 Pennsylvania Avenue NW., Washington, DC 20523.

Notification procedures:

Individuals requesting notification of the existence of records on them must send the request in writing to the Chief Privacy Officer, USAID, 2733 Crystal Drive, 11th Floor, Arlington, Va. 22202. The request must include the requestor's full name, his/her current address and a return address for transmitting the information. The request shall be signed by either notarized signature or by signature under penalty of perjury and reasonably specify the record contents being sought.

Record access procedures:

Individuals wishing to request access to a record must submit the request in writing according to the “Notification Procedures” above. An individual wishing to request access to records in person must provide identity documents, such as government-issued photo identification, sufficient to satisfy the custodian of the records that the requester is entitled to access.

Contesting record procedures:

An individual requesting amendment of a record maintained on himself or herself must identify the information to be changed and the corrective action sought. Requests must follow the “Notification Procedures” above.

Record source categories:

The records contained in this system will be provided by and updated by the individual who is the subject of the record.

Exemptions claimed for the system:

None.

Meredith Snee,
Privacy Analyst.

[FR Doc. 2012-25607 Filed 10-17-12; 8:45 am]

BILLING CODE P